DEPARTMENT OF HEALTH AND HUMAN SERVICES

Administration for Children and Families

Proposed Information Collection Activity; Identifying and Addressing Human Trafficking in Child Welfare Agencies (New Collection)

AGENCY: Office of Planning, Research, and Evaluation; Administration for Children and Families; HHS.

ACTION: Request for public comment.

SUMMARY: The Administration for Children and Families (ACF) within the U.S. Department of Health and Human Services (HHS) is proposing to collect data on child welfare agencies' efforts to identify human trafficking and subsequent service delivery. The goal of the study is to better understand child welfare practice in screening for human trafficking, and the degree to which screening is related to subsequent referrals for, access to, and delivery of specialized services for children identified as trafficking victims or at high-risk of trafficking.

DATES: Comments due within 60 days of publication. In compliance with the requirements of Section 3506(c)(2)(A) of the Paperwork Reduction Act of 1995, ACF is soliciting public comment on the specific aspects of the information collection described above.

ADDRESSES: Copies of the proposed collection of information can be obtained and comments may be forwarded by emailing OPREinfocollection@acf.hhs.gov. Alternatively, copies can also be obtained by writing to the Administration for Children and Families, Office of Planning, Research and Evaluation, 330 C Street SW, Washington, DC 20201, Attn: OPRE Reports Clearance Officer. All requests, emailed or written, should be identified by the title of the information collection.

SUPPLEMENTARY INFORMATION: Description: ACF is proposing data collection as part of the study “Identifying and Addressing Human Trafficking in Child Welfare Agencies,” exploring child welfare practice in screening for human trafficking, and the relationship between screening and specialized services.

Primary data collection includes semi-structured qualitative interviews with state and local human trafficking coordinators (or comparable staff members with greatest knowledge about human trafficking efforts); small group interviews with casework supervisors; and case narrative interviews with caseworkers.

The interviews will be conducted by telephone (25 state agencies) and in-person (up to 8 local agencies or offices). Interview questions will be focused on how agencies select, train on, and implement screening for human trafficking, the details of screening protocols, and variations in implementation. Questions will also address the availability of specialized services for children identified as trafficking victims or at high-risk of trafficking, agency steps based on positive or suspected screening, and the process for initiating specialized services.

Respondents: State and local human trafficking coordinators, casework supervisors, and caseworkers.

Annual Burden Estimates

Data collection is expected to take place over 2 years.

Instrument | Number of respondents (total over request period) | Number of responses per respondent (total over request period) | Average burden per response (in hours) | Total burden (in hours) | Annual burden (in hours)
State Human Trafficking Coordinator Telephone Interview Guide | 25 | 1 | 1.5 | 37.5 | 19
Local Human Trafficking Coordinator Interview Guide | 8 | 1 | 1.5 | 12 | 6
Casework Supervisor Group Interview Guide | 40 | 1 | 1.5 | 60 | 30
Caseworker Case Narrative Interview Guide | 48 | 1 | 1 | 48 | 24

Estimated Total Annual Burden Hours: 79

Comments: The Department specifically requests comments on (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: Section 476(a)(1-2) (42 U.S.C. 676) of the Social Security Act Part E-Federal Payments for Foster Care and Adoption Assistance.

Mary B. Jones,
ACF/OPRE Certifying Officer.

[FR Doc. 2020-13779 Filed 6-25-20; 8:45 am]

BILLING CODE 4184-25-P